DEPARTMENT OF HEALTH AND HUMAN SERVICES

Health Resources and Services Administration

Challenge Competition: Using Technology to Prevent Childhood Obesity in Low-Income Families and Communities

AGENCY: Health Resources and Services Administration, Department of Health and Human Services.

ACTION: Notice.

SUMMARY: The Health Resources and Services Administration's (HRSA's) Maternal and Child Health Bureau (MCHB) announces a prize competition to support the development of low-cost, scalable technology-based innovations to promote healthy weight for low-income children and families in the socio-cultural and environmental contexts of their communities.

The statutory authority for this challenge competition is Section 105 of the America COMPETES Reauthorization Act of 2010.

This challenge, structured in three phases, will reach a diverse population of innovators and problem solvers, including families, coders, public health experts, community leaders, individuals affiliated with academic institutions, research and development communities in the private sector, and others.

All submissions will be evaluated and separate prizes will be awarded for each of the three phases below.

Phase 1: Design

Phase 2: Development and Small Scale Testing

Phase 3: Scaling

Estimated dates for each phase are as follows:

Phase 1: Effective on January 2, 2018

Phase 1 Submission Period Ends: January 31, 2018, 11:59 p.m. ET

Phase 1 Judging Period: February 1-February 28, 2018

Phase 1 Winners Announced: March 12, 2018

Phase 2 Begins: March 13, 2018

Phase 2 Submission Period Ends: July 11, 2018

Phase 2 Judging Period: July 12-August 12, 2018

Phase 2 Winners Announced: August 20, 2018

Phase 3 Begins: August 21, 2018

Phase 3 Submission Period Ends: February 21, 2019

Phase 3 Winner Announced: March 1, 2019

FOR FURTHER INFORMATION CONTACT: Meredith Morrissette, Division of Maternal and Child Health Workforce Development, MCHB, MMorrissette@hrsa.gov, (301) 443-6392, or James Resnick, Office of the Associate Administrator, MCHB, JResnick@hrsa.gov, (301) 443-3222.

SUPPLEMENTARY INFORMATION: On January 4, 2011, the America COMPETES Reauthorization Act of 2010 was signed into law allowing the use of challenges and prize competitions increasing agencies' ability to promote and harness innovation. Competitions run by the federal government result in a number of benefits to the public, including the following:

(a) Increasing the number and diversity of the individuals, teams, and organizations that are addressing a particular problem or challenge of national significance;

(b) Improving the skills of the participants in the competition; and

(c) Directing attention to new market opportunities and stimulating private sector investment.

Subject of Challenge Competition

Secretary Price identified reducing childhood obesity as a priority for the Department of Health and Human Services (HHS), acknowledging this is a growing epidemic in the United States. Since 1980, childhood obesity rates for 2- to 19-year-olds have tripled, with rates of obesity in 6- to 11-year-olds more than doubling, and rates of obesity in 12- to 19-year-olds quadrupling. While improved eating behaviors and increased physical activity play a large role in obesity prevention, additional public health factors such as limited access to affordable, healthy food options, social and cultural norms, and limited availability of safe places to play also impact childhood obesity rates. While existing apps and tools address individual behaviors, such as exercise and nutrition, their uptake in underserved communities is limited because they are not tailored to the needs, challenges, and barriers to healthy weight in these communities. The goal of this challenge is to make technology work for the family as a unit within the reality of their larger community environment.

Addressing childhood obesity from a population-based, public health perspective as a complement to the individual clinical perspective requires innovative, community-based solutions and partnerships. A challenge will maximize competition and spur innovation for communities in a cost-effective and accelerated timeframe. It will reach a broad stakeholder group and allow involvement of non-traditional partners who are knowledgeable about the strengths and challenges affecting the community, and who can bring new ideas towards addressing this issue. A challenge will provide support for the development of several innovative ideas through a pay-for-results mechanism, ultimately leading to the development of multiple novel and scalable interventions.

Potential areas of focus include, but are not limited to:

• Promoting access to healthy, affordable food;

• Supporting community-owned solutions that increase families' knowledge and skills related to healthy eating and nutrition;

• Finding innovative ways that increase physical activity, such as gamification, while accounting for environmental barriers to physical activity in underserved communities; and

• Empowering families to achieve healthy eating practices, healthy lifestyles, and sustainable changes in the home environment, while accounting for limited access to healthy foods in under-resourced communities.

Key design features of the innovations may address one or more of the following:

• Be at low-cost to families and scalable;

• Account for social, cultural, and environmental barriers to healthy weight behaviors;

• Incorporate a two-generation approach in targeting the family unit (children and parents/caregivers);

• Be focused on underserved families and communities;

• Address the supply and demand of food (i.e., use innovative means to connect families in food deserts or families that are food insecure to healthy food);

• Be grounded in behavioral science for long-term behavior change around nutrition and healthy behaviors; and

• Address nutrition and physical activity.

Eligibility Rules for Participating in the Competition

To be eligible to win a prize under this challenge, an individual or entity—

(1) Shall have registered to participate in the competition under the rules promulgated by HRSA and HHS.

(2) Shall have complied with all the requirements under this section.

(3) In the case of a private entity, shall be incorporated in and maintain a primary place of business in the United States, and in the case of an individual, whether participating singly or in a group, shall be a citizen or permanent resident of the United States.

(4) May not be a federal entity or federal employee acting within the scope of their employment.

(5) Shall not be an HHS employee working on their applications or submissions during assigned duty hours.

(6) May not be employees of HRSA or any other company, organization, or individual involved with the design, production, execution, judging, or distribution of the Challenge and their immediate family (i.e., spouse, parents and step-parents, siblings and step-siblings, and children and step-children) and household members (i.e., people who share the same residence at least 3 months out of the year).

(7) In the case of a federal grantee, may not use federal funds to develop COMPETES Act challenge applications unless consistent with the purpose of their grant award.

(8) In the case of a federal contractor, may not use federal funds from a contract to develop COMPETES Act challenge applications or to fund efforts in support of a COMPETES Act challenge submission.

(9) Shall not be deemed ineligible because the individual or entity used federal facilities or consulted with federal employees during a competition if the facilities and employees are made equitably available to all individuals and entities participating in the competition.

(10) Must agree to assume any and all risks and waive claims against the federal government and its related entities, except in the case of willful misconduct, for any injury, death, damage, or loss of property, revenue, or profits, whether direct, indirect, or consequential, arising from the participation in this prize contest, whether the injury, death, damage, or loss arises through negligence or otherwise.

(11) Must also agree to indemnify the federal government against third party claims for damages arising from or related to competition activities.

(12) Shall not be currently on the Excluded Parties List (https://www.epls.gov/).

Submission Requirements

The Challenge has three phases.

Phase 1—Design

The first stage of the prize competition aims to attract a large set of ideas and innovators. The target product of the first stage will be the conceptualization of the most promising innovations to promote healthy weight behaviors in children and families in vulnerable populations. The submissions should demonstrate that the proposed intervention will be accessible to traditionally underserved populations and easily implemented by users.

The Phase 1 Submission shall include:

1. A comprehensive description of the proposed intervention in five pages or less, including:

a. A one-paragraph executive summary that clearly states the question to be solved;

b. Background information linking the evidence to support the intervention;

c. A descriptive analysis of how the applicant arrived at their idea;

d. Descriptions of the methods and technologies involved in implementation of the intervention; and

e. An assessment describing the applicant's ability to execute the proposed solution in Phase 2 and 3.

Phase 2—Development and Small Scale Testing

The winners of Phase 1 of the prize competition will then advance to a second stage focused on prototyping the intervention and testing the effectiveness of the intervention. Using support from the Phase 1 prize funding, innovation developers will test the efficacy of their models to show that the proposed innovation demonstrates an impact on the outcomes of interest for children and families. The applicants should demonstrate both the evidence base for the innovation and its usability. Mentors will be available to help participants design appropriate testing methodologies and learn more about the evidence base.

Phase 3—Scaling

The winners of Phase 2 will move to the final phase of the incentive prize, which will involve testing the most promising models at greater scale through rollout at the program or community level. This will test the scalability of the device at low-cost, the feasibility of implementation, and the impact on the intended outcomes. Applicants are encouraged to work closely with a community or city to facilitate scaling the intervention in order to reach more families.

Registration Process for Participants

Participants will be able to register and submit an entry at the Using Technology to Prevent Childhood Obesity in Low-Income Families and Communities Challenge Web site. Participants can find out more information at https://www.challenge.gov/ list.

Prizes

• Total: $375,000 in Prizes

○ Phase 1: 7-10 winners; up to a total of $100,000 in prizes

○ Phase 2: 3-5 winners; up to a total of $125,000 in prizes

○ Phase 3: 1 winner; up to a total of $150,000 prize

Payment of the Prizes

Prize payments will be paid by a contractor. Phase 1 winners may be expected to use a portion of the prize money for travel and lodging to attend a 2-day meeting in Washington, DC, to demonstrate their innovation to the judges.

Prizes awarded under this competition will be paid by electronic funds transfer and may be subject to federal income taxes. HHS will comply with the Internal Revenue Service withholding and reporting requirements, where applicable.

Basis for Winner Selection

A review panel composed of HHS employees and experts will judge challenge entries in compliance with the requirements of the COMPETES Act and HHS judging guidelines: http://www.hhs.gov/idealab/wp-content/uploads/2014/04/HHS-COMPETITION-JUDGING-GUIDELINES.pdf.

The review panel will make selections based upon the following criteria:

Phase 1

Accessibility

• Is the proposed innovation able to be easily utilized by families of diverse economic, social, and cultural backgrounds?

Measurability

• How easily will the proposed innovation be evaluated in order to determine its efficacy (in both lab testing and in the real world)? Is the proposed innovation measurable among various audiences?

Sustainability

• Is the proposed innovation “sticky?” Does the proposed intervention compel users to utilize the technology often and/or for long periods of time? Does it fit into usual family and/or community routines? Is it engaging for users?

Impact

• Does the applicant present a theory or explanation of how the proposed innovation would promote healthy weight behaviors and/or access to healthy food?

Phase 2

Impact

• How did the innovation impact target outcomes? What did the data show?

Evidence Base

• Is the intervention grounded in existing science related to healthy weight behaviors, childhood obesity, behavior change, etc.?

Sustainability

• Was the intervention compelling to users and did it encourage users to use the technology often? Did users want to continuously engage with the technology?

Implementation

• How feasible is the intervention? How much support for implementation will the intervention require (estimated financial and time commitment)?

Phase 3

Impact

• How effective was the intervention when implemented at scale? Did the impacts from Phase 2 remain consistent?

Implementation

• How feasible was the intervention on a larger scale? How much support for implementation did the model require (financial and time commitment)? How challenging was the actual program implementation?

Scalability

• How costly was the intervention in a real-world setting? How likely are cost efficiencies for program delivery at greater scale? Can the innovation be used in other communities?

Additional Information

General Conditions:

• HRSA reserves the right to cancel, suspend, and/or modify the contest, or any part of it, for any reason, at HRSA's sole discretion.

• The interventions submitted across all phases should not use the HHS or HRSA logos or official seals in the submission, and must not claim endorsement.

Intellectual Property

• Each entrant retains full ownership and title in and to their submission. Entrants expressly reserve all intellectual property rights not expressly granted under the challenge agreement.

• By participating in the challenge, each entrant hereby irrevocably grants to HRSA a limited, non-exclusive, royalty-free, worldwide license and right to reproduce, publically perform, publically display, and use the submission for internal HHS business and to the extent necessary to administer the challenge, and to publically perform and publically display the submission, including, without limitation, for advertising and promotional purposes relating to the challenge.

• Record Retention and FOIA: All materials submitted to HRSA as part of a submission become HRSA records and cannot be returned. Any confidential commercial information contained in a submission should be designated at the time of submission. Participants will be notified of any Freedom of Information Act requests for their submissions in accordance with 45 CFR 5.65.

Dated: September 19, 2017.
George Sigounas,
Administrator.

[FR Doc. 2017-20537 Filed 9-25-17; 8:45 am]

BILLING CODE 4165-15-P